DEPARTMENT OF JUSTICE

Notice of Lodging of Proposed Settlement Agreement Under the Comprehensive Environmental Response, Compensation, and Liability Act

On March 21, 2023, the Department of Justice lodged a proposed Settlement Agreement entered into with Betteroads Asphalt, LLC (“Betteroads”) in the United States Bankruptcy Court for the District of Puerto Rico in In re Betteroads Asphalt, LLC, Case No. 17-04156-ESL11. Betteroads is a potentially responsible party under section 107(a) of the Comprehensive Environmental Response, Compensation, and Liability Act (“CERCLA”), 42 U.S.C. 9607(a), at the PROTECO Superfund Site located Penuelas, Puerto Rico (the “Site”). Under the Settlement Agreement, the United States, on behalf of the United States Environmental Protection Agency (“EPA”), will have an allowed claim in the amount of $1,095,567. This allowed claim will be paid as a Class 6 General Unsecured Claim under the terms of the First Amended Plan of Reorganization. EPA has provided a covenant not to file a civil action or take administrative action against Betteroads pursuant to sections 106 or 107 of CERCLA, 42 U.S.C. 9606 or 9607, with respect to the Site.

The publication of this notice opens a period for public comment on the Settlement Agreement. Comments should be addressed to the Assistant Attorney General, Environment and Natural Resources Division, and should refer to In re Betteroads Asphalt, LLC, Case No. 17-04156-ESL11, D.J. Ref. No. 90-11-3-12289. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Settlement Agreement may be examined and downloaded at this Justice Department website: https://www.justice.gov/enrd/consent-decrees. We will provide a paper copy of the Settlement Agreement upon written request and payment of reproduction costs. Please mail your request and payment to: Consent Decree Library, U.S. DOJ—ENRD, P.O. Box 7611, Washington, DC 20044-7611.

Please enclose a check or money order for $3.25 (25 cents per page reproduction cost) payable to the United States Treasury.

Henry Friedman,
Assistant Section Chief, Environmental Enforcement Section, Environment and Natural Resources Division.

[FR Doc. 2023-06230 Filed 3-24-23; 8:45 am]

BILLING CODE 4410-15-P